DEPARTMENT OF TRANSPORTATION

National Highway Traffic Safety Administration

[U.S. DOT Docket No. NHTSA-2012-0012]

Agency Requests Approval To Extend Information Collection(s): Section 410 Alcohol Impaired Driving Countermeasures

AGENCY: National Highway Traffic Safety Administration, Department of Transportation.

ACTION: Notice and request for comments.

SUMMARY: The Department of Transportation (DOT) invites public comments about our intention to request the Office of Management and Budget (OMB) approval to extend information collection. The collection involves preparation of certifications, and documents detailing how specific grant criteria will be met. The information to be collected will be used to and/or is necessary because it is required under 23 CFR part 1313, to apply for Section 410 grant funds. We are required to publish this notice in the Federal Register by the Paperwork Reduction Act of 1995, Public Law 104-13.

DATES: Written comments should be submitted by April 9, 2012.

ADDRESSES: You may submit comments identified by Docket No. DOT-NHTSA-2012-0012 through one of the following methods:

Federal eRulemaking Portal: http://www.regulations.gov. Follow the online instructions for submitting comments.

Fax: 1 (202) 493-2251.

Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Jackie Schraf, (202) 366-3990, NHTSA, U.S. Department of Transportation, 1200 New Jersey Avenue SE., Washington, DC, 20590.

SUPPLEMENTARY INFORMATION: OMB Control Number: 2127-0021.

Title: 23 CFR, Part 1313, Alcohol Impaired Driving Countermeasures.

Form Numbers: NA.

Type of Review: Collection extension.

Background: An impaired driving incentive grant is available to States that have an alcohol fatality rate of 0.5 or less per 100 million vehicle miles traveled as determined by using the most recent Fatality Analysis Reporting System (FARS) data or that are one of the ten States that have the highest alcohol related fatality rates as determined by using the most recent FARS data. States designated as a high fatality rate State must submit a comprehensive plan for conducting high visibility enforcement and a report on the previous years activities.

States may also qualify through meeting specified program criteria. To demonstrate compliance using program criteria, a State must submit an application that shows how they meet the specified criteria. Three of eight criteria are required in FY 2006, four of eight criteria are required in FY 2007 and five of eight criteria are required in FY 2008, FY 2009 and beyond. A State designated as a high fatality rate State may also submit an application to qualify by meeting specified program criteria.

Respondents: 50 States, District of Columbia and Puerto Rico.

Estimated Number of Respondents: 47-50 States, District of Columbia and Puerto Rico.

Estimated Number of Responses: 1-2 applications.

Estimated Total Annual Burden: 1350 hours.

Estimated Frequency: One time per year.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Mary D. Gunnels,
Associate Administrator, Regional Operations and Program Delivery.

[FR Doc. 2012-2935 Filed 2-8-12; 8:45 am]

BILLING CODE 4910-59-P